DEPARTMENT OF STATE

[Public Notice 4279]

Determination Pursuant to Section 212(a)(3)(B) of the Immigration and Nationality Act (INA), Placing Entities on the Terrorist Exclusion List (TEL)

Acting under the authority of section 212(a)(3)(B) of the Immigration and Nationality Act (INA), as amended, and in consultation with the Secretary of the Treasury and the Attorney General, I hereby determine that each of the following entities is a “terrorist organization” under the meaning of the INA:

Al Taqwa Trade, Property and Industry Company Limited (f.k.a. Al Taqwa Trade, Property and Industry; f.k.a. Al Taqwa Trade, Property and Industry Establishment; f.k.a. Himmat Establishment)

Bank Al Taqwa Limited (a.k.a. Al Taqwa Bank; a.k.a. Bank Al Taqwa)

Nada Management Organization SA (f.k.a. Al Taqwa Management Organization SA)

Youssef M. Nada & Co. Gesellschaft M.B.H.

Ummah Tameer E-Nau (UTN) (a.k.a. Foundation for Construction; a.k.a. Nation Building; a.k.a. Reconstruction Foundation; a.k.a. Reconstruction of the Islamic Community; a.k.a. Reconstruction of the Muslim Ummah; a.k.a. Ummah Tameer I-Nau; a.k.a. Ummah Tameer E-Nau; a.k.a. Ummah Tameer I-Pau)

Loyalist Volunteer Force (LVF)

Ulster Defense Association (a.k.a. Ulster Freedom Fighters)

Afghan Support Committee (ASC) (a.k.a. Ahya ul Turas; a.k.a. Jamiat Ayat-ur-Rhas al Islamia; a.k.a. Jamiat Ihya ul Turath al Islamia; a.k.a. Lajnat el Masa Eidatul Afghania)

Revival of Islamic Heritage Society (RIHS) (a.k.a. Jamia Ihya ul Turath; a.k.a. Jamiat Ihia Al-Turath Al-Islamiya; a.k.a. Revival of Islamic Society Heritage on the African Continent) [Pakistan and Afghanistan; Kuwait office not designated]

This notice shall be published in the Federal Register.

Dated: November 6, 2002.
Colin L. Powell,
Secretary of State, Department of State (TE).

[FR Doc. 03-3850 Filed 2-14-03; 8:45 am]

BILLING CODE 4710-10-P